NUCLEAR REGULATORY COMMISSION

Sunshine Act; Notice of Meeting

Agency Holding the Meetings: Nuclear Regulatory Commission.

Date: Weeks of December 5, 12, 19, 26, 2005, January 2, 9, 2006.

Place: Commissioners' Conference Room, 11555 Rockville Pike, Rockville, Maryland.

Status: Public and Closed.

Matters To Be Considered

Week of December 5, 2005

Thursday, December 8, 2005.

1 p.m.—Meeting with the Advisory Committee on Reactor Safeguards (ACRS), (Contact: John Larkins, 301-415-7360).

This meeting will be webcast live at the Web address: http://www.nrc.gov.

Week of December 12, 2005—Tentative

Monday, December 12, 2005.

8:50 a.m.—Affirmation Session (Public Meeting) (Tentative), a. Exelon Generation Company, LLC (Early Site Permit for Clinton Site). (Tentative).

9 a.m.—Discussion of Security Issues (Closed—Ex. 1).

Wednesday, December 14, 2005.

1:30 p.m.—Discussion of Security Issues (Closed—Ex. 1).

Thursday, December 15, 2005.

1:30 p.m.—Briefing on Threat Environment Assessment (Closed—Ex. 1).

Week of December 19, 2005—Tentative

There are no meetings scheduled for the Week of December 19, 2005.

Week of December 26, 2005—Tentative

There are no meetings scheduled for the Week of December 26, 2005.

Week of January 2, 2006—Tentative

There are no meetings scheduled for the Week of January 2, 2006.

Week of January 9, 2006—Tentative

Tuesday, January 10, 2006.

9:30 a.m.—Briefing on International Research and Bilateral Agreements, (Contact: Roman Schaffer, 301-415-7606).

This meeting will be webcast live at the Web address: http://www.nrc.gov.

Wednesday, January 11, 2006.

9:30 a.m.—Meeting with Advisory Committee on Nuclear Waste (ACNW), (Contact: John Larkins, 301-415-7360).

This meeting will be webcast live at the Web address: http://www.nrc.gov.

Thursday, January 12, 2006.

9:30 a.m.—Discussion of Security Issues (Closed—Ex. 1 & 2).

*The schedule for commission meetings is subject to change on short notice. To verify the status of meetings call (recording)—(301) 415-1292. contact person for more information: Michelle Schroll, (301) 415-1662.

The NRC Commission Meeting Schedule can be found on the Internet at: http://www.nrc.gov/what-we-do/policy-making/schedule.html.

Additional Information

The Affirmation Session tentatively scheduled on November 30, 2005, at 9:25 a.m. has been rescheduled tentatively on December 12, 2005, at 8:50 a.m.

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 1, 2005.
R. Michelle Schroll,
Office of the Secretary.

[FR Doc. 05-23706 Filed 12-2-05; 11:00 am]

BILLING CODE 7590-01-M